DEPARTMENT OF DEFENSE

Defense Logistics Agency

Privacy Act of 1974; Systems of Records

AGENCY: Defense Logistics Agency.

ACTION: Notice to amend a system of records; S200.60 DD-Chaplain Care and Counseling Records.

SUMMARY: The Defense Logistics Agency is amending a system of records notice to its existing inventory of record systems subject to the Privacy Act of 1974 (5 U.S.C. 552a), as amended.

DATES: This action will be effective without further notice on September 2, 2005, unless comments are received that would result in a contrary determination.

ADDRESSES: Send comments to the Privacy Act Officer, Headquarters, Defense Logistics Agency, ATTN: DP, 8725 John J. Kingman Road, Stop 2533, Fort Belvoir, VA 22060-6221.

FOR FURTHER INFORMATION CONTACT: Ms. Susan Salus at (703) 767-6183.

SUPPLEMENTARY INFORMATION: The Defense Logistics Agency notices for systems of records subject to the Privacy Act of 1974 (5 U.S.C. 552a), as amended, have been published in the Federal Register and are available from the address above.

The specific changes to the record system being amended are set forth below followed by the notice, as amended, published in its entirety. The proposed amendment is not within the purview of subsection (r) of the Privacy Act of 1974, (5 U.S.C. 552a), as amended, which requires the submission of a new or altered system report.

Dated: July 15, 2005.
Jeannette Owings-Ballard,
OSD Federal Register Liaison Officer, Department of Defense.

S200.60 DD

System name:

Chaplain Care and Counseling Records (November 16, 2004, 69 FR 67112).

Changes:

System identifier:

Delete “DD” from entry.

* * * * *

System location:

Delete entry and replace with “Office of the Chaplain, Headquarters, Defense Logistics Agency, ATTN: DH, 8725 John J. Kingman Road, Stop 2533, Fort Belvoir, VA 22060-6221.”

* * * * *

Authority for maintenance of the system:

Delete entry and replace with “5 U.S.C. 301, Departmental Regulations; 10 U.S.C. 136, Under Secretary of Defense for Personnel and Readiness; 10 U.S.C. 3547, Duties: Chaplains, assistance required of commanding officers; 10 U.S.C. 5142, Chaplain Corps and Chief of Chaplains; 10 U.S.C. 8067(h), Designation: officers to perform certain professional functions (chaplains); and E.O. 9397 (SSN).”

* * * * *

Retrievability:

Replace “or” with “and/or''.

System manager and address:

Delete and replace entry with “Command Chaplain, Headquarters, Defense Logistics Agency, ATTN: DH, 8725 John J. Kingman Road, Stop 2533, Fort Belvoir, VA 22060-6221.”

Notification procedure:

Delete address and replace with “Headquarters, Defense Logistics Agency, ATTN: DP, 8725 John J. Kingman Road, Stop 2533, Fort Belvoir, VA 22060-6221.”

Record access procedures:

Delete address and replace with “Headquarters, Defense Logistics Agency, ATTN: DP, 8725 John J. Kingman Road, Stop 2533, Fort Belvoir, VA 22060-6221.”

Contesting record procedures:

Delete address and replace with “Headquarters, Defense Logistics Agency, ATTN: DP, 8725 John J. Kingman Road, Stop 2533, Fort Belvoir, VA 22060-6221.”

* * * * *

S200.60

System name:

Chaplain Care and Counseling Records.

System location:

Office of the Chaplain, Headquarters, Defense Logistics Agency, ATTN: DH, 8725 John J. Kingman Road, Stop 2533, Fort Belvoir, VA 22060-6221.

Categories of individuals covered by the system:

Individuals who have received spiritual counseling, guidance, or ministration from the DLA Command Chaplain; individuals who have participated in Chaplain sponsored activities.

Categories of records in the system:

Individual's name, Social Security Number, home address and telephone number, religion, and details for which the individual sought counseling or assistance.

Authority for maintenance of the system:

5 U.S.C. 301, Departmental Regulations; 10 U.S.C. 136, Under Secretary of Defense for Personnel and Readiness; 10 U.S.C. 3547, Duties: Chaplains, assistance required of commanding officers; 10 U.S.C. 5142, Chaplain Corps and Chief of Chaplains; 10 U.S.C. 8067(h), Designation: officers to perform certain professional functions (chaplains); and E.O. 9397 (SSN).

Purpose(s):

To document spiritual counseling or assistance provided to individuals. The records will be used in the course of scheduling counseling sessions, conducting and evaluating training, and recording participation in spiritual activities.

Routine uses of records maintained in the system, including categories of users and the purposes of such uses:

In addition to those disclosures generally permitted under 5 U.S.C. 553a(b) of the Privacy Act, these records and information contained therein may specifically be disclosed outside DoD as a routine use pursuant to 5 U.S.C. 55a(b)(3) as follows:

The DoD ‘Blanket Routine Uses' set forth at the beginning DLA's compilation of systems of records notices do not apply to this system.

Policies and practices for storing, retrieving, accessing, retaining, and disposing of records in the system:

Storage:

Records are stored in paper and electronic form.

Retrievability:

Records are retrieved by individual's name and/or Social Security Number.

Safeguards:

Records are stored in locked cabinets or rooms and are controlled by personnel screening and computer software.

Retention and Disposal:

Information is retained in the system until superseded or no longer needed.

System manager and address:

Command Chaplain, Headquarters, Defense Logistics Agency, ATTN: DH, 8725 John J. Kingman Road, Stop 2533, Fort Belvoir, VA 22060-6221.

Notification procedure:

Individuals seeking to determine whether information about themselves is contained in this system should address written inquiries to the Privacy Act Officer, Headquarters, Defense Logistics Agency, ATTN: DP, 8725 John J. Kingman Road, Stop 2533, Fort Belvoir, VA 22060-6221.

Record access procedures:

Individuals seeking access to information about themselves contained in this system should address written inquiries to the Privacy Act Officer, Headquarters, Defense Logistics Agency, ATTN: DP, 8725 John J. Kingman Road, Stop 2533, Fort Belvoir, VA 22060-6221.

Contesting record procedures:

The DLA rules for accessing records, for contesting contents, and appealing initial agency determinations are contained in 32 CFR part 323, or may be obtained from the Privacy Act Officer, Headquarters, Defense Logistics Agency, ATTN: DP, 8725 John J. Kingman Road, Stop 2533, Fort Belvoir, VA 22060-6221.

Record source categories:

Information is provided by the record subject or subject's family members.

Exemptions claimed for the system:

None.

[FR Doc. 05-15354 Filed 8-2-05; 8:45 am]

BILLING CODE 5001-06-P